DEPARTMENT OF LABOR

Employee Benefits Security Administration

Prohibited Transaction Exemption (PTE) 2003-38; Exemption Application No. D-11167; Aetna Life Insurance Company (Aetna) and UBS Realty Investors LLC (UBS Realty), Located in Hartford, CT

AGENCY: Employee Benefits Security Administration, Department of Labor (the Department).

ACTION: Notice of technical correction.

On December 17, 2003, the Department published PTE 2003-38 in the Federal Register at 68 FR 70315. PTE 2003-38 permits certain transactions that may occur as a result of the sharing of real estate investments among various accounts maintained by Aetna, including Aetna's general account, and the general accounts of Aetna's affiliates which are insurance companies licensed to do business in at least one state, and the ERISA-Covered Accounts with respect to which both Aetna and UBS Realty are fiduciaries.

On page 70315 of the notice granting PTE 2003-38, the prohibited transaction exemption number, appearing in the bracketed text at the beginning of the document, was inadvertently omitted even though the year of publication was specified. Accordingly, the Department hereby corrects the grant notice, in part, to read as follows: “[Prohibited Transaction Exemption 2003-38;* * *]”

FOR FURTHER INFORMATION CONTACT: Mr. Brian J. Buyniski of the Department at (202) 693-8545. (This is not a toll-free number.)

Signed at Washington, DC this 19th day of December, 2003.
Ivan L. Strasfeld,
Director of Exemption Determinations, Employee Benefits Security Administration, Department of Labor.

[FR Doc. 03-31712 Filed 12-23-03; 8:45 am]

BILLING CODE 4510-29-P